DEPARTMENT OF AGRICULTURE

Forest Service

Notice of Resource Advisory Committee Meeting

AGENCY: Lassen Resource Advisory Committee, Susanville, California, USDA Forest Service.

ACTION: Notice of meeting.

SUMMARY: Pursuant to the authorities in the Federal Advisory Committees Act (Pub. L. 92-463) and under the Secure Rural Schools and Community Self-Determination Act of 2000 (Pub. L. 106-393) the Lassen National Forest's Lassen County Resource Advisory Committee will meet Thursday, May 11th in Susanville, California for a business meeting. The meetings are open to the public.

SUPPLEMENTARY INFORMATION: The business meeting on May 11th will begin at 9 a.m., at the Lassen National Forest Headquarters Office, Caribou Conference Room, 2550 Riverside Drive, Susanville, CA 96130. This meeting will be reviewing February meeting minutes; have an update on the proposed legislation and coalition meeting; summer trips designations; and review the schedule for the final round of funding through the “Secure Rural Schools and Self Determination Act of 2000,” commonly known as Payments to States. Time will also be set aside for public comments at the beginning of the meeting.

FOR FURTHER INFORMATION CONTACT: Robert Andrews, District Ranger, Designated Federal Officer, at (530) 257-4188; or Public Affairs Officer, Heidi Perry, at (530) 252-6604.

Laurie Tippin,
Forest Supervisor.

[FR Doc. 06-3839 Filed 4-21-06; 8:45 am]

BILLING CODE 3410-11-M